DEPARTMENT OF ENERGY

Federal Energy Regulatory Commission

Combined Notice of Filings #1

July 9, 2008.

Take notice that the Commission received the following electric rate filings:

Docket Numbers: ER98-3184-011; ER00-494-005.

Applicants: TransAlta Energy Marketing; TransAlta Centralia Generation LLC.

Description: TransAlta Entities submits updated market power analysis for the Northeast region, which demonstrates that the TransAlta Entities continue to be eligible to make wholesale sales of electric capacity & energy etc.

Filed Date: 06/30/2008.

Accession Number: 20080702-0003.

Comment Date: 5 p.m. Eastern Time on Monday, July 21, 2008.

Docket Numbers: ER99-2156-015; ER96-719-022; ER97-2801-023.

Applicants: Cordova Energy Company LLC; MidAmerican Energy Company; PacifiCorp.

Description: Cordova Energy Company LLC et al. submits updated market power analysis.

Filed Date: 06/30/2008.

Accession Number: 20080702-0219.

Comment Date: 5 p.m. Eastern Time on Monday, July 21, 2008.

Docket Numbers: ER99-3502-008; ER02-1884-007; ER02-1884-008.

Applicants: Berkshire Power Company, LLC; Waterside Power, LLC.

Description: Berkshire Power Co et al. submits a Compliance Filing pursuant to Order 697.

Filed Date: 06/30/2008.

Accession Number: 20080703-0152.

Comment Date: 5 p.m. Eastern Time on Monday, July 21, 2008.

Docket Numbers: ER00-2129-001; ER00-2508-003; ER00-1749-004; ER01-3035-007; ER04-944-004; ER03-382-005; ER06-1272-004; ER99-1801-009; ER02-1762-006; ER07-1300-001.

Applicants: Orion Power Midwest, L.P.; Reliant Energy Mid-Atlantic Pwr Holdings; Reliant Energy New Jersey Holdings, LLC; Reliant Energy Seward, LLC; Reliant Energy Wholesale Generation, LLC; Reliant Energy Electric Solutions, LLC; Reliant Energy Power Supply, LLC; Reliant Energy Services, Inc., Reliant Energy Solutions East, LLC; Reliant Energy Solutions Northeast, LLC.

Description: Reliant NE MBR Entities submits their triennial market power analysis for the Northeast Region and revisions to their market based rate tariffs.

Filed Date: 06/30/2008.

Accession Number: 20080707-0009.

Comment Date: 5 p.m. Eastern Time on Monday, July 21, 2008.

Docket Numbers: ER00-2738-008; ER99-1004-009; ER01-1721-006; ER00-2740-008; ER02-564-006; ER06-653-003.

Applicants: Entergy Nuclear Fitzpatrick, LLC; Entergy Nuclear Generation Company; Entergy Nuclear Indian Point 2, LLC; Entergy Nuclear Indian Point 3, LLC; Entergy Nuclear Vermont Yankee, LLC; Entergy Nuclear Power Marketing, LLC.

Description: Entergy Nuclear Affiliates submits updated market power analysis to support the continued allowance of market-based rates.

Filed Date: 06/30/2008.

Accession Number: 20080702-0106.

Comment Date: 5 p.m. Eastern Time on Monday, July 21, 2008.

Docket Numbers: ER00-3614-008.

Applicants: BP Energy Company.

Description: BP Energy Co submits an updated market power analysis and proposed tariff revisions in compliance with Order 697 and 697-A.

Filed Date: 06/30/2008.

Accession Number: 20080702-0210.

Comment Date: 5 p.m. Eastern Time on Monday, July 21, 2008.

Docket Numbers: ER01-1268-011; ER01-1269-010; ER01-1271-011; ER01-1266-010; ER01-1273-011; ER01-1277-010; ER02-1213-009.

Applicants: Mirant Canal, LLC; Mirant Chalk Point, LLC; Mirant Kendall, LLC; Mirant Bowline, LLC; Mirant Mid-Atlantic, LLC; Mirant Potomac River, LLC; Mirant Energy Trading, LLC.

Description: Mirant Canal, LLC et al. (Mirant Entities) submits their joint triennial market power filing pursuant to Order 697 under ER01-1268 et al.

Filed Date: 06/30/2008.

Accession Number: 20080702-0112.

Comment Date: 5 p.m. Eastern Time on Monday, July 21, 2008.

Docket Numbers: ER01-3103-015.

Applicants: Astoria Energy LLC.

Description: Astoria Energy LLC submits the Combined Notice of Change in Status Under Order 652 and Compliance/Triennial Filing Under Order 697 etc.

Filed Date: 06/30/2008.

Accession Number: 20080702-0217.

Comment Date: 5 p.m. Eastern Time on Monday, July 21, 2008.

Docket Numbers: ER02-973-005.

Applicants: UBS AG.

Description: UBS AG submits an application for determination of their status as a Category 1 seller pursuant to Order 697 and 697-A.

Filed Date: 06/30/2008.

Accession Number: 20080702-0208.

Comment Date: 5 p.m. Eastern Time on Monday, July 21, 2008.

Docket Numbers: ER04-708-006.

Applicants: Horsehead Corp.

Description: Horsehead Corp submits an application for determination of their status as a Category 1 seller pursuant to Order 697 and 697-A.

Filed Date: 06/30/2008.

Accession Number: 20080702-0207.

Comment Date: 5 p.m. Eastern Time on Monday, July 21, 2008.

Docket Numbers: ER04-734-003; ER07-981-001.

Applicants: Barclays Bank PLC; Barclays Capital Energy Inc.

Description: Barclays Bank PLC et al. submits an updated market power analysis and proposed tariff revisions in compliance with Order 697 and 697-A.

Filed Date: 06/30/2008.

Accession Number: 20080702-0209.

Comment Date: 5 p.m. Eastern Time on Monday, July 21, 2008.

Docket Numbers: ER04-925-019.

Applicants: Merrill Lynch Commodities, Inc.

Description: Petition of Merrill Lynch Commodities, Inc requesting classification as a Category 1 seller pursuant to Order 697 etc.

Filed Date: 06/30/2008.

Accession Number: 20080703-0154.

Comment Date: 5 p.m. Eastern Time on Monday, July 21, 2008.

Docket Numbers: ER05-454-005; ER06-805-002; ER07-528-003; ER06-642-004; ER05-118-006; ER05-131-006; ER06-804-001; ER06-1446-004; ER03-796-007; ER06-784-003.

Applicants: Bear Swamp Power Company LLC; Brookfield Energy Marketing Inc.; Brookfield Energy Marketing U.S. LLC; Brookfield Power Piney & Deep Creek LLC; Carr Street Generating Station, L.P.; Erie Boulevard Hydropower, L.P.; Great Lakes Hydro America, LLC; Hawks Nest Hydro LLC; Katahdin Paper Company LLC; Rumford Falls Hydro LLC.

Description: Bear Swamp Power Co, LLC et al. submits an updated market power analysis proposed tariff revisions and request for confidential treatment.

Filed Date: 06/30/2008.

Accession Number: 20080702-0017.

Comment Date: 5 p.m. Eastern Time on Monday, July 21, 2008.

Docket Numbers: ER06-560-001.

Applicants: Credit Suisse Energy LLC.

Description: Credit Suisse Energy LLC submits a filing explaining why CSE qualifies as a Category 1 Seller of wholesale electricity in the Northeast region of the United States and in all other Regions specified by the Commission Appendix D etc.

Filed Date: 06/30/2008.

Accession Number: 20080707-0001.

Comment Date: 5 p.m. Eastern Time on Monday, July 21, 2008.

Docket Numbers: ER06-635-004; ER06-634-004; ER95-1007-023.

Applicants: Edgecombe Genco, LLC; Spruance Genco, LLC; Logan Generating Company, LP.

Description: Edgecomb Genco, LLC et al. submits updated market power analysis in compliance with the requirements of Order 697-A.

Filed Date: 06/30/2008.

Accession Number: 20080702-0110.

Comment Date: 5 p.m. Eastern Time on Monday, July 21, 2008.

Docket Numbers: ER06-759-004.

Applicants: Selkirk Cogen Partners, L.P.

Description: Selkirk Cogen Partners, L.P. submits updated market power analysis in compliance with the requirements of section 35.37 of the regulations of the FERC and the regional schedule set forth in Order 697 A for the Northeast region.

Filed Date: 06/30/2008; 07/1/08.

Accession Number: 20080702-0213; 20080702-0214.

Comment Date: 5 p.m. Eastern Time on Monday, July 21, 2008.

Docket Numbers: ER06-764-002; ER06-1226-001.

Applicants: Premcor Refining Group Inc.; Valero Power Marketing LLC.

Description: The Premcor Refining Group, Inc. and Valero Power Marketing, LLC's joint application for Category 1 Seller Determinations, Filing of Triennial Market-Based Rate Update etc.

Filed Date: 06/30/2008.

Accession Number: 20080707-0012.

Comment Date: 5 p.m. Eastern Time on Monday, July 21, 2008.

Docket Numbers: ER06-864-012; ER07-1356-004; ER07-1112-003; ER07-1113-003; ER07-1115-003; ER07-1116-003; ER07-1117-003; ER07-1358-004; ER07-1118-003; ER07-1119-003; ER07-1120-003; ER07-1122-003; ER06-1543-009; ER00-2885-019; ER01-2765-018; ER08-148-003; ER05-1232-011; ER02-1582-016; ER02-2102-018; ER03-1283-013.

Applicants: Bear Energy LP; BE Alabama LLC; BE Allegheny LLC; BE CA LLC; BE Colquitt LLC; BE Ironwood LLC; BE Satilla LLC; BE Ironwood LLC; BE KJ LLC; BE Louisiana LLC; BE Rayle LLC; BE Red Oak LLC; BE Walton LLC; Brush Cogeneration Partners; Cedar Brakes I, L.L.C.; Cedar Brakes II, LLC; Central Power & Lime Inc; J.P. Morgan Ventures Energy Corporation; Mohawk River Funding IV, L.L.C.; Utility Contract Funding, L.L.C.; Vineland Energy LLC

Description: Bear Energy, LP et al. submits their Triennial Report.

Filed Date: 06/30/2008.

Accession Number: 20080702-0188.

Comment Date: 5 p.m. Eastern Time on Monday, July 21, 2008.

Docket Numbers: ER06-1280-002; ER00-2181-005; ER02-556-009.

Applicants: Hess Corporation; Hess Energy, Inc.; Select Energy New York, Inc.

Description: Hess Corp et al. submits an Updated Market Power Analysis.

Filed Date: 06/30/2008.

Accession Number: 20080702-0111.

Comment Date: 5 p.m. Eastern Time on Monday, July 21, 2008.

Docket Numbers: ER06-1402-001; ER06-1403-001.

Applicants: Westmoreland Partners (ROVA I); Westmoreland Partners (ROVA II).

Description: Westmoreland Partners submits a request for classification as a Category 1 seller pursuant to Order 697 and 697-A.

Filed Date: 06/30/2008.

Accession Number: 20080703-0201.

Comment Date: 5 p.m. Eastern Time on Monday, July 21, 2008.

Docket Numbers: ER07-74-001.

Applicants: Caithness Long Island, LLC.

Description: Caithness Long Island, LLC submits a notice of their status as a Category 1 seller pursuant to Order 697 and 697-A.

Filed Date: 06/30/2008.

Accession Number: 20080702-0206.

Comment Date: 5 p.m. Eastern Time on Monday, July 21, 2008.

Docket Numbers: ER07-189-005; ER07-190-005; ER07-191-005; ER07-192-003.

Applicants: Duke Energy Indiana, Inc.; Duke Energy Kentucky, Inc.; Duke Energy Ohio, Inc.; Duke Energy Shared Service, Inc.

Description: Duke Energy MBR Companies submits an updated market power analysis focusing on the generation owned and controlled by Duke Energy Ohio, Inc.

Filed Date: 06/30/2008.

Accession Number: 20080702-0192.

Comment Date: 5 p.m. Eastern Time on Monday, July 21, 2008.

Docket Numbers: ER07-911-002; ER98-2782-015.

Applicants: RPL Holdings, Inc.; AG Energy L.P.

Description: RPL Holdings, Inc et al. submits a filing demonstrating their status as a Category 1 seller pursuant to Order 697 and 697-A under ER07-911 et al.

Filed Date: 06/30/2008.

Accession Number: 20080702-0160.

Comment Date: 5 p.m. Eastern Time on Monday, July 21, 2008.

Docket Numbers: ER08-1-002.

Applicants: Yuma Power Limited Liability Company.

Description: Yuma Power Limited Liability Co submits a revised market-based rate tariff sheets in compliance with Order 697 and 697-A under ER08-1.

Filed Date: 06/30/2008.

Accession Number: 20080702-0203.

Comment Date: 5 p.m. Eastern Time on Monday, July 21, 2008.

Docket Numbers: ER08-200-002; ER06-1291-002; ER07-565-001; ER07-566-001; ER07-412-002.

Applicants: Waterbury Generation, LLC; MT. Tom Generating Company LLC; FirstLight Hydro Generating Company; FirstLight Power Resources Management, LLC; ECP Energy I, LLC.

Description: Waterbury Generation, LLC et al. submits an updated market power analysis to conform to the requirements of Order 697.

Filed Date: 06/30/2008.

Accession Number: 20080702-0096.

Comment Date: 5 p.m. Eastern Time on Monday, July 21, 2008.

Docket Numbers: ER08-201-003; ER08-202-003.

Applicants: Cogentrix Virginia Leasing Corporation; James River Cogeneration Company.

Description: Cogentrix Virginia Leasing Corp et al. submits an updated market power analysis in compliance with Order 697 and 697-A under ER08-201 et al.

Filed Date: 06/30/2008.

Accession Number: 20080702-0205.

Comment Date: 5 p.m. Eastern Time on Monday, July 21, 2008.

Docket Numbers: ER08-1213-000.

Applicants: Westmoreland Partners.

Description: Westmoreland Partners request the withdrawal and deletion from its market-based rate tariff of two long-term, market-based Power Purchase Agreements with Virginia Electric and Power Company etc under ER08-1213.

Filed Date: 06/30/2008.

Accession Number: 20080707-0071.

Comment Date: 5 p.m. Eastern Time on Monday, July 21, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E8-16307 Filed 7-16-08; 8:45 am]

BILLING CODE 6717-01-P